COMMISSION ON CIVIL RIGHTS

Sunshine Act Notice

AGENCY: United States Commission on Civil Rights.

ACTION: Notice of meeting.

DATE AND TIME: Friday, September 24, 2010; 9:30 a.m. EDT

PLACE: 624 9th St., NW., Room 540, Washington, DC 20425.

Meeting Agenda

This meeting is open to the public.

I. Approval of Agenda

II. Program Planning

• Approval of New Black Panther Party Enforcement Report

• Consideration of Findings and Recommendations for Briefing Report on Health Care Disparities

• Consideration of FY 2011 Enforcement Report Topic

• Consideration of Concept Paper for Briefing on the Department of Education's Investigation of Disparate Impact in Student Discipline

• Consideration of Policy on Commissioner Statements and Rebuttals

• Update on Sex Discrimination in Liberal Arts College Admissions Project—Some of the discussion of this agenda item may be held in closed session.

• Update on Clearinghouse Project

III. State Advisory Committee Issues

• Maine SAC

• New Mexico SAC

IV. Approval of Minutes of September 10 Meeting

V. Staff Director's Report

VI. Announcements

VII. Adjourn

CONTACT PERSON FOR FURTHER INFORMATION: Lenore Ostrowsky, Acting Chief, Public Affairs Unit (202) 376-8591. TDD: (202) 376-8116.

Persons with a disability requiring special services, such as an interpreter for the hearing impaired, should contact Pamela Dunston at least seven days prior to the meeting at 202-376-8105. TDD: (202) 376-8116.

Dated: September 13, 2010.
David Blackwood,
General Counsel.

[FR Doc. 2010-23184 Filed 9-13-10; 4:15 pm]

BILLING CODE 6335-01-P